ENVIRONMENTAL PROTECTION AGENCY

[FRL-9925-22-OA]

Notice of Meeting of the EPA's Children's Health Protection Advisory Committee

AGENCY: Environmental Protection Agency (EPA).

ACTION: Notice of meeting.

SUMMARY: Pursuant to the provisions of the Federal Advisory Committee Act, Public Law 92-463, notice is hereby given that the next meeting of the Children's Health Protection Advisory Committee (CHPAC) will be held April 21 and 22, 2015 at the Sheraton Silver Spring, 8777 Georgia Avenue, Silver Spring, Maryland 20910. The CHPAC was created to advise the Environmental Protection Agency on science, regulations, and other issues relating to children's environmental health.

DATES: The CHPAC will meet April 21 and 22, 2015.

ADDRESSES: 8777 Georgia Avenue, Silver Spring, Maryland, 20910.

FOR FURTHER INFORMATION CONTACT: Martha Berger, Office of Children's Health Protection, USEPA, MC 1107A, 1200 Pennsylvania Avenue NW., Washington, DC 20460, (202) 564-2191 or berger.martha@epa.gov.

SUPPLEMENTARY INFORMATION: The meetings of the CHPAC are open to the public. The CHPAC will meet on April 21 from 12:30 p.m. to 5:00 p.m., and April 22 from 9:00 a.m. to 4:00 p.m. at the Sheraton Silver Spring, 8777 Georgia Avenue, Silver Spring, Maryland 20910. An agenda will be posted at epa.gov/children.

Access and Accommodations: For information on access or services for individuals with disabilities, please contact Martha Berger at 202-564-2191 or berger.martha@epa.gov.

Dated: March 12, 2015.
Martha Berger,
Designated Federal Official.

[FR Doc. 2015-06876 Filed 4-3-15; 8:45 am]

BILLING CODE 6560-50-P